DEPARTMENT OF AGRICULTURE

Forest Service

Secure Rural Schools Resource Advisory Committees

AGENCY: Forest Service, Agriculture (USDA).

ACTION: Solicitation for members.

SUMMARY: The United States Department of Agriculture (USDA), Forest Service, is seeking nominations for the Secure Rural School Resource Advisory Committees (SRS RACs) pursuant to the Secure Rural Schools and Community Self-Determination Act (the Act) and the Federal Advisory Committee Act (FACA).

DATES: Written nominations must be received by April 17, 2025. A completed application packet includes the nominee's name, resume, and completed AD-755 Form (Advisory Committee or Research and Promotion Background Information). All completed application packets must be sent to one of the addresses below.

ADDRESSES: See SUPPLEMENTARY INFORMATION for the name and addresses of the SRS RAC Regional Coordinators accepting nominations.

Additional information on the SRS RACs can be found by visiting the SRS RACs website at https://www.fs.usda.gov/working-with-us/secure-rural-schools.

FOR FURTHER INFORMATION CONTACT: Brianna Gallegos, National Partnership Coordinator, National Partnership Office, USDA Forest Service, Yates Building, 1400 Independence Avenue, Mailstop 1158, Washington, DC 20250; or by email to SM.FS.SRSInbox@usda.gov or phone 505-218-1535. Individuals who use telecommunications devices for the hearing impaired may call 711 to reach the Telecommunications Relay Service, 24 hours a day, every day of the year, including holidays.

SUPPLEMENTARY INFORMATION:

Background

In accordance with the provisions of FACA, the Secretary of Agriculture is seeking nominations for the purpose of improving collaborative relationships among people who use and care for national forests and provide advice and recommendations to the Forest Service concerning projects and funding consistent with title II. The duties of SRS RACs include monitoring projects, advising the Secretary on the progress and results of monitoring efforts, and making recommendations to the Forest Service for any appropriate changes or adjustments to the projects being monitored by the SRS RACs.

SRS RACs Membership

The SRS RACs will be comprised of 15 members approved by the Secretary of Agriculture (or designee) where each will serve a 4-year term. SRS RACs memberships will be balanced in terms of the points of view represented and functions to be performed. The SRS RACs shall include representation from the following interest areas:

(1) Five persons who represent:

(a) Organized labor or non-timber forest product harvester groups;

(b) Developed outdoor recreation, off-highway vehicle users, or commercial recreation activities;

(c) Energy and mineral development, or commercial or recreational fishing groups;

(d) Commercial timber industry; and

(e) Federal grazing permit or other land use permit holders, or representative of non-industrial private forest land owners, within the area for which the committee is organized.

(2) Five persons who represent:

(a) Nationally or regionally recognized environmental organizations;

(b) Regionally or locally recognized environmental organizations;

(c) Dispersed recreational activities;

(d) Archaeology and history; and

(e) Nationally or regionally recognized wild horse and burro interest, wildlife hunting organizations, or watershed associations.

(3) Five persons who represent:

(a) State elected office holder;

(b) County or local elected office holder;

(c) American Indian Tribes within or adjacent to the area for which the committee is organized;

(d) Area school officials or teachers; and

(e) Affected public-at-large.

If a vacancy arises, the Designated Federal Officer (DFO) may consider recommending to the Secretary (or designee) to fill the vacancy as soon as it occurs with a candidate from the applicant pool provided an appropriate candidate is available. In accordance with the Act, members of the SRS RAC shall serve without compensation. SRS RAC members and replacements may be allowed travel expenses and per diem for attendance at committee meetings, subject to approval of the DFO responsible for administrative support to the SRS RAC.

Nomination and Application Information

The appointment of members to the SRS RACs will be made by the Secretary of Agriculture (or designee). The public is invited to submit nominations for membership on the SRS RACs, either as a self-nomination or a nomination of any qualified and interested person. Any individual or organization may nominate one or more qualified persons to represent the interest areas listed above.

To be considered for membership, nominees must:

1. Be a resident of the State in which the SRS RAC has jurisdiction,

2. Identify what interest group they would represent and how they are qualified to represent that interest group,

3. Provide a cover letter stating why they want to serve on the SRS RAC and what they can contribute,

4. Provide a resume showing their past experience in working successfully as part of a group working on forest management activities,

5. Complete Form AD-755, Advisory Committee or Research and Promotion Background Information. The Form AD-755 may be obtained from the Regional Coordinators listed below or from the following SRS RACs website: https://www.fs.usda.gov/working-with-us/secure-rural-schools/title-2. All nominations will be vetted by the Forest Service.

Nominations and completed applications for SRS RACs should be sent to the appropriate Forest Service Regional Offices listed below:

Northern Regional Office—Region 1

Helena-Lewis Clark RAC, Flathead RAC, Gallatin RAC, Idaho Panhandle RAC, Lincoln RAC, Mineral County RAC, Missoula RAC, North Central Idaho RAC, Ravalli RAC, Sanders RAC, Southern Montana RAC, Southwest Montana RAC, Tri-County RAC.

Jeffery Miller, Northern Regional Coordinator, Forest Service, 26 Fort Missoula Road, Missoula, Montana 59804, (406)-329-3576 or email jeffrey.m.miller@usda.gov.

Rocky Mountain Regional Office—Region 2

Black Hills RAC and Greater Rocky Mountain RAC.

Jace Ratzlaff, Rocky Mountain Regional Coordinator, Forest Service, 1617 Cole Blvd. Building 17, Lakewood, Colorado 80401, (719) 469-1254 or email jace.ratzlaff@usda.gov.

Southwestern Regional Office—Region 3

Coconino County RAC, Eastern Arizona RAC, Northern New Mexico RAC, Southern Arizona RAC, Southern New Mexico RAC, Yavapai RAC.

Erik Stemmerman, Southwestern Regional Coordinator, Forest Service, 333 Broadway SE, Albuquerque, New Mexico 87102, (575) 539-2481 or email erick.stemmerman@usda.gov.

Intermountain Regional Office—Region 4

Southern Utah RAC, Alpine RAC, Bridger-Teton RAC, Central Idaho RAC, Eastern Idaho RAC, Nevada RAC, Northern Utah, South Central Idaho RAC, Southwest Idaho RAC.

Sabrina Kohrt, Intermountain Regional Coordinator (Idaho, Utah, Nevada), Forest Service, 324 25th Street, Ogden UT 84401, (720) 601-0756 or email sabrina.kohrt@usda.gov.

Pacific Southwest Regional Office—Region 5

Butte County RAC, Del Norte County RAC, El Dorado County RAC, Fresno County RAC, Glenn and Colusa Counties RAC, Humboldt County RAC, Kern and Tulare Counties RAC, Lassen County RAC, Mendo-Lake County RAC, Modoc County RAC, Nevada and Placer Counties RAC, Plumas County RAC, Shasta County RAC, Sierra County RAC, Siskiyou County RAC, Tehama RAC, Trinity County RAC, Tuolumne and Mariposa Counties RAC.

Paul Wade, Pacific Southwest Regional Coordinator, Forest Service, 1323 Club Drive, Vallejo, California 94592, (707) 562-9010 or email paul.r.wade@usda.gov.

Pacific Northwest Regional Office—Region 6

Colville RAC, Deschutes and Ochoco RAC, Fremont and Winema RAC, Hood and Willamette RAC, Gifford Pinchot RAC, Northeast Oregon Forests RAC, Olympic Peninsula RAC, Rogue and Umpqua RAC, Siskiyou (OR) RAC, Siuslaw RAC, Mt. Baker Snoqualmie National Forest RAC, Wenatchee-Okanogan RAC, Umatilla Washington RAC.

Rebecca Ciciretti, Pacific Northwest Regional Office, Forest Service, 1220 SW 3rd Avenue, Portland, OR 97204, (202)-290-4748 or email rebecca.ciciretti@usda.gov.

Southern Regional Office—Region 8

Alabama RAC, Cherokee RAC, Daniel Boone RAC, Davy Crockett RAC, Florida National Forests RAC, Francis Marion-Sumter RAC, Kisatchie RAC, Ozark-Ouachita RAC, Sabine-Angelina RAC, National Forest in Mississippi RAC, Virginia RAC, El Yunque RAC.

Danielle Knight, Southern Regional Coordinator, Forest Service, 1720 Peachtree Road, Northwest, Atlanta, Georgia 30309, (470)-725-9779 or email danielle.knight@usda.gov.

Eastern Regional Office—Region 9

Allegheny RAC, Chippewa National Forest RAC, Eleven Point RAC, Hiawatha RAC, Huron-Manistee RAC, North Wisconsin RAC, Ottawa, Superior RAC, West Virginia RAC.

Tiffany Benna, Eastern Regional Coordinator, Forest Service, 71 White Mountain Drive, Campton, New Hampshire 03223, (603)-348-0078 or email tiffany.benna@usda.gov.

Alaska Regional Office—Region 10

Kenai Peninsula-Anchorage Borough RAC, North Tongass RAC, Prince William Sound RAC, South Tongass RAC.

Carlos D La Torree, Alaska Regional Coordinator, Forest Service, 161 E 1st Ave Door 8, Anchorage, Alaska 99501, (907) 738-2758 or email carlos.delatorre@usda.gov.

Equal opportunity practices in accordance with USDA's policies will be followed in all appointments to the Committee. To ensure that the recommendations of the Committee have taken in account the needs of the diverse groups served by USDA, membership shall include, to the extent practicable, individuals with demonstrated ability to represent the many communities, identities, races, ethnicities, backgrounds, abilities, cultures, and beliefs of the American people, including underserved communities. USDA is an equal opportunity provider, employer, and lender.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Dated: January 14, 2025.
Cikena Reid,
USDA Committee Management Officer.

[FR Doc. 2025-01287 Filed 1-17-25; 8:45 am]

BILLING CODE 3411-15-P